DEPARTMENT OF EDUCATION

[CFDA 84.060A]

Indian Education Formula Grants to Local Education Agencies—Notice Inviting Applications for Fiscal Year (FY) 2005

AGENCY: Office of Indian Education.

Purpose: The Indian Education Formula Grant program provides grants to support local educational agencies (LEAs) and other eligible entities (described elsewhere in this notice) in their efforts to reform and improve elementary and secondary school programs that serve Indian students. The programs funded are to be based on challenging State academic content and student academic achievement standards used for all students, and be designed to assist Indian students to meet those standards. Section 7116 of the Elementary and Secondary Education Act of 1965, as amended (ESEA), also authorizes, upon the Secretary's receipt of an acceptable plan for the integration of education and related services, the consolidation of funds for any Federal program exclusively serving Indian children, or the funds reserved under any Federal program to exclusively serve Indian children, that are awarded under a statutory or administrative formula, for the purposes of providing education and related services that would be used to serve Indian students. Instructions for submitting an integration of services plan are included in the application package.

Eligible Applicants: LEAs, certain schools funded by the Bureau of Indian Affairs and Indian tribes under certain conditions, as prescribed by section 7112(c) of the ESEA.

Applications Available: January 12, 2005.

Deadline for Transmittal of Applications: February 28, 2005.

Applications not meeting the deadline will not be considered for funding in the initial allocation of awards. However, if funds become available after the initial allocation of funds, applications not meeting the deadline may be considered for funding if the Secretary determines, under section 7118(d) of the ESEA, that reallocation of those funds to applicants filing after the deadline would best assist in advancing the purposes of the program. However, the amount and date of an individual award, if any, may be less than the applicant would have received had the application been submitted on time.

Deadline for Intergovernmental Review: May 11, 2005.

Available Funds: $95,165,536.

Estimated Range of Awards: $4,000 to $2,215,000.

Estimated Average Size of Awards: $79,503.

Estimated Number of Awards: 1,197.

Note: The Department is not bound by any estimates in this notice.

Project Period: Up to 24 months for new applications.

Applicable Regulations: The Education Department General Administrative Regulations (EDGAR) in 34 CFR Parts 75, 77, 79, 80, 81, 82, 84, 85, 86, 97, 98, and 99.

Note: The regulations in 34 CFR part 79 apply to all applicants except federally recognized Indian tribes.

For Applications or Information Contact: Cathie Martin, Office of Indian Education, U.S. Department of Education, 400 Maryland Avenue, SW., room 5C152, Washington, DC. 20202-6335. Telephone: (202) 260-3774. An electronic version of the application is available at: http://www.ed.gov/about/offices/list/ous/oie/index.html.

Individuals who use a telecommunications device for the deaf (TDD) may call the Federal Information Relay Service (FIRS) at 1-800-877-8339.

Individuals with disabilities may obtain this document in an alternative format (e.g., Braille, large print, audiotape, or computer diskette) on request to the person listed in this section.

Electronic Access to This Document: You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office toll free at 1 (888) 293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 7421.

Dated: January 5, 2005.
Victoria Vasques,
Deputy Under Secretary and Director for Indian Education.

[FR Doc. 05-522 Filed 1-10-05; 8:45 am]

BILLING CODE 4000-01-P